ENVIRONMENTAL PROTECTION AGENCY

40 CFR Part 52

[EPA-R03-OAR-2010-0857; FRL-9243-6]

Approval and Promulgation of Air Quality Implementation Plans; Pennsylvania; Allegheny County's Adoption of Control Techniques Guidelines for Large Appliance and Metal Furniture; Flat Wood Paneling; Paper, Film, and Foil Surface Coating Processes; and Revisions to Definitions and an Existing Regulation

AGENCY: Environmental Protection Agency (EPA).

ACTION: Direct final rule.

SUMMARY: EPA is taking direct final action to approve revisions to the Pennsylvania State Implementation Plan (SIP). These SIP revisions include amendments to the Allegheny County Health Department (ACHD) Rules and Regulations, Article XXI, Air Pollution Control, and meet the requirement to adopt Reasonably Available Control Technology (RACT) for sources covered by EPA's Control Techniques Guidelines (CTG) standards for the following categories: Large appliance and metal furniture; flat wood paneling; and paper, film, and foil surface coating processes. These amendments will reduce emissions of volatile organic compounds (VOC) from large appliance and metal furniture; flat wood paneling; and paper, film, and foil surface coating processes. Therefore, this revision will help Pennsylvania attain and maintain the national ambient air quality standard (NAAQS) for ozone. This action is being taken under the Clean Air Act (CAA).

DATES: This rule is effective on February 28, 2011 without further notice, unless EPA receives adverse written comment by January 27, 2011. If EPA receives such comments, it will publish a timely withdrawal of the direct final rule in the Federal Register and inform the public that the rule will not take effect.

ADDRESSES: Submit your comments, identified by Docket ID Number EPA-R03-OAR-2010-0857 by one of the following methods:

A. http://www.regulations.gov. Follow the on-line instructions for submitting comments.

B. E-mail: powers.marilyn@epa.gov.

C. Mail: EPA-R03-OAR-2010-0857, Marilyn Powers, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0857. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105 or the Allegheny County Health Department, Bureau of Environmental Quality, Division of Air Quality, 301 39th Street, Pittsburgh, Pennsylvania 15201.

FOR FURTHER INFORMATION CONTACT: Irene Shandruk, (215) 814-2166, or by e-mail at shandruk.irene@epa.gov.

SUPPLEMENTARY INFORMATION: On July 23, 2010, the Pennsylvania Department of Environmental Protection (PADEP) submitted to EPA a SIP revision concerning the adoption of the EPA CTGs for large appliance and metal furniture; flat wood paneling; and paper, film, and foil surface coating processes.

I. Background

Section 172(c)(1) of the CAA provides that SIPs for nonattainment areas must include reasonably available control measures (RACM), including RACT for sources of emissions. Section 182(b)(2)(A) provides that for certain nonattainment areas, States must revise their SIPs to include RACT for sources of VOC emissions covered by a CTG document issued after November 15, 1990 and prior to the area's date of attainment.

CTGs are intended to provide State and local air pollution control authorities information that should assist them in determining RACT for VOCs from various sources, including large appliance coatings, metal furniture coatings, flat wood paneling coatings, and paper, film, and foil coatings. In developing these CTGs, EPA, among other things, evaluated the sources of VOC emissions from this industry and the available control approaches for addressing these emissions, including the costs of such approaches. Based on available information and data, EPA provided recommendations for RACT for VOCs from large appliance coatings, metal furniture coatings, flat wood paneling coatings, and paper, film, and foil coatings.

In December 1977, EPA published CTGs for large appliance coatings (EPA-450/2-77-034), surface coating of metal furniture (EPA-450/2-77-032), and surface coating of paper (EPA-450/2-77-008). In June 1978, EPA published a CTG for flat wood paneling coatings (EPA-450/2-78-034). These CTGs discuss the nature of VOC emissions from these industries, available control technologies for addressing such emissions, the costs of available control options, and other items.

EPA promulgated national standards of performance for new stationary sources (NSPS) for the industries listed above, and EPA also published a national emission standard for hazardous air pollutants (NESHAP) for these industries.

In 2006 and 2007, after conducting a review of currently existing State and local VOC emission reduction approaches for these industries, reviewing the 1977/1978 CTGs and the NESHAPs for these industries, and taking into account the information that has become available since then, EPA developed new CTGs for: Surface coating of large appliances, entitled Control Techniques Guidelines for Large Appliance Coatings (Publication No. EPA 453/R-07-004; September 2007); surface coating of paper, entitled Control Techniques Guidelines for Paper, Film, and Foil Coatings (Publication No. EPA 453/R-07-003; September 2007); surface coating of metal furniture, entitled Control Techniques Guidelines for Metal Furniture Coatings (Publication No. EPA 453/R-07-005; September 2007); and surface coating of flat wood paneling, entitled Control Techniques Guidelines for Flat Wood Paneling Coatings (Publication No. EPA 453/R-06-004).

Large appliance coatings include, but are not limited to, materials referred to as paint, topcoats, basecoats, primers, enamels, and adhesives used in the manufacture of large appliance parts or products. Coatings are a critical constituent to the large appliance industry. The metal furniture coatings product category includes the coatings that are applied to the surfaces of metal furniture. Metal furniture coatings serve decorative, protective, and functional purposes. Flat wood paneling coatings means wood paneling products that are any interior, exterior or tileboard (class I hardboard) panel to which a protective, decorative, or functional material or layer has been applied. Emissions of VOCs from flat wood coating facilities occur primarily at the coating line, although some emissions also occur at paint mixing and storage areas. The paper, film, and foil product category includes coatings that are applied to paper, film, or foil surfaces in the manufacturing of several major product types for the following industry sectors: Pressure sensitive tape and labels; photographic film; industrial and decorative laminates; abrasive products; and flexible packaging. The category also includes coatings applied during miscellaneous coating operations for several products including: Corrugated and solid fiber boxes; die-cut paper paperboard and cardboard; converted paper and paperboard not elsewhere classified; folding paperboard boxes, including sanitary boxes; manifold business forms and related products; plastic asceptic packaging; and carbon paper and inked ribbons. VOC emissions from large appliance, metal furniture, flat wood paneling, and paper, film, or foil surface coating processes result from the evaporation of the components of the coatings and cleaning materials.

II. Summary of SIP Revision

On July 23, 2010, the Pennsylvania Department of Environmental Protection (PADEP) submitted to EPA a SIP revision concerning the adoption of the EPA CTGs for large appliance and metal furniture; flat wood paneling; and paper, film, and foil surface coating processes in Allegheny County. EPA develops CTGs as guidance on control requirements for source categories. States can follow the CTGs or adopt more restrictive standards. Allegheny County has adopted EPA's CTG standards into ACHD Rules and Regulations, Article XXI, Air Pollution Control, section 2105.77 for large appliance and metal furniture; section 2105.78 for flat wood paneling; and section 2105.79 for paper, film, and foil surface coating processes (see EPA 453/R-07-004, September 2007; EPA 453/R-07-003, September 2007; EPA 453/R-07-005, September 2007; EPA 453/R-06-004). Additionally, the SIP revision included revisions to an existing regulation (section 2105.10) for surface coating processes and related definitions (section 2101.20). This action affects sources that use large appliance and metal furniture; flat wood paneling; and paper, film, and foil surface coating processes in Allegheny County.

New regulation, section 2105.77, Control of VOC Emissions from Large Appliance and Metal Furniture Surface Coating Processes establishes the following emissions limits of VOCs for Large Appliance and Metal Surface Coatings:

Table 2105.77—Emissions Limits of VOCs for Large Appliance and Metal Surface Coatings
[Weight of VOC per volume of coating solids]
Surface coating process category | Baked: kg/l | Baked: lb/gal | Air dried: kg/l | Air dried: lb/gal
1. Large Appliance coating: | 0.40 | 3.3 | 0.40 | 3.3
(a) general, one component | 0.40 | 3.3 | 0.55 | 4.5
(b) general, multi-component | 0.55 | 4.62 | 0.55 | 4.62
(c) extreme high gloss | 0.55 | 4.62 | 0.55 | 4.62
(d) extreme performance | 0.55 | 4.62 | 0.55 | 4.62
(e) heat resistant | 0.55 | 4.62 | 0.55 | 4.62
(f) metallic | 0.55 | 4.62 | 0.55 | 4.62
(g) pretreatment coatings | 0.55 | 4.62 | 0.55 | 4.62
(h) solar absorbent | 0.55 | 4.62 | 0.55 | 4.62
2. Metal Furniture coating: | 0.40 | 3.3 | 0.40 | 3.3
(a) general, one component | 0.40 | 3.3 | 0.55 | 4.5
(b) general, multi-component | 0.61 | 5.06 | 0.55 | 4.5
(c) extreme high gloss | 0.61 | 5.06 | 0.61 | 5.06
(d) extreme performance | 0.61 | 5.06 | 0.61 | 5.06
(e) heat resistant | 0.61 | 5.06 | 0.61 | 5.06
(f) metallic | 0.61 | 5.06 | 0.61 | 5.06
(g) pretreatment coatings | 0.61 | 5.06 | 0.61 | 5.06
(h) solar absorbent | 0.61 | 5.06 | 0.61 | 5.06

Additionally, the regulation outlines applicability, limitations, exempt solvents, application techniques, and work practices.

New regulation, section 2105.78, Control of VOC Emissions from Flat Wood Paneling Coating Processes establishes the following emissions limits of VOCs: The VOC content of each as applied coating is equal to or less than 2.9 lbs. VOC per gallon of coating solids (0.35 kg VOC per liter of coating solids). Additionally, the regulation outlines applicability, limitations, records, exempt solvents, application techniques, and work practices.

New regulation, section 2105.79, Control of VOC Emissions from Paper, Film, and Foil Surface Coating operations establishes the following emissions limits of VOC:

Table 2105.79—Emissions Limits of VOCs for Paper, Film, and Foil Surface Coatings
[Weight of VOC per weight of solids or coating applied]
Surface coating process category | Solids applied kg VOC/kg solids | Coating applied kg VOC/kg coatings
Pressure Sensitive Tape and Label | 0.20 | 0.067
Paper, Film, and Foil (Not including pressure sensitive tape and labels) | 0.40 | 0.08

Additionally, the regulation outlines applicability, limitations, records, exempt solvents, application techniques, and work practices.

In addition to adopting the CTGs discussed above, definitions arising from these CTG regulations were added to Article XXI (section 2101.20) and are being added to the Allegheny County portion of the Pennsylvania SIP. Definitions were added for exterior panels, interior panels, flat wood panel coating, and tileboard.

Changes were also made to an existing regulation, section 2105.10, Surface Coating Processes, making outdated limits for sources covered by these CTG regulations void after January 1, 2011. The specific language added is as follows:

1. The limits from section 2105.10 and Table section 2105.10, number 7 for metal furniture coating and number 9 for large appliance coating, no longer apply to the large appliance and metal furniture surface coating process as of January 1, 2011.

2. The limits from section 2105.10 and Table section 2105.10, number 5 for Paper coating, no longer apply to the paper, film, and foil surface coating process as of January 1, 2011.

III. Final Action

Pennsylvania's July 23, 2010 SIP revision meets the CAA requirement to include RACT for sources covered by the EPA CTGs for the following categories in Allegheny County: Large appliance and metal furniture; flat wood paneling; and paper, film, and foil surface coating processes. Therefore, EPA is approving the Pennsylvania SIP revision for adoption of the CTG standards for large appliance and metal furniture; flat wood paneling; and paper, film, and foil surface coating processes. EPA is publishing this rule without prior proposal because the Agency views this as a noncontroversial amendment and anticipates no adverse comment. However, in the “Proposed Rules” section of today's Federal Register, EPA is publishing a separate document that will serve as the proposal to approve the SIP revision if adverse comments are filed. This rule will be effective on February 28, 2011 without further notice unless EPA receives adverse comment by January 27, 2011. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by February 28, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action pertaining to Allegheny County's adoption of the CTG standards for large appliance and metal furniture, flat wood paneling, and paper, film, and foil surface coating processes may not be challenged later in proceedings to enforce its requirements. (See section 307(b)(2).)

List of Subjects in 40 CFR Part 52

Environmental protection, Air pollution control, Incorporation by reference, Ozone, Reporting and recordkeeping requirements, Volatile organic compounds.

Dated: December 14, 2010.
W.C. Early,
Acting, Regional Administrator, Region III.

40 CFR part 52 is amended as follows:

PART 52—[AMENDED]

1. The authority citation for part 52 continues to read as follows:

Authority: 42 U.S.C. 7401 et seq.

Subpart NN—Pennsylvania

2. In § 52.2020, the table in paragraph (c)(2) is amended by revising the entries for Article XXI, Sections 2101.20 and 2105.10, and adding entries for Article XXI, Sections 2105.77, 2105.78, 2105.79 to read as follows:

§ 52.2020 Identification of plan.

* * * * *

(c) * * *

(2) * * *

Article XX or XXI citation | Title/subject | State effective date | EPA approval date | Additional explanation/§ 52.2063 citation
Part A—General
* * * * * * *
2101.20 | Definitions | 5/24/10 | 12/28/10 [Insert page number where the document begins] | Addition of four new definitions: Exterior panels, interior panels, flat wood panel coating, and tileboard.
* * * * * * *
Part E—Source Emission and Operating Standards
* * * * * * *
Subpart 1—VOC Sources
* * * * * * *
2105.10 | Surface Coating Processes | 5/24/10 | 12/28/10 [Insert page number where the document begins] | Revision to Applicability, section 2105.10(a).
Subpart 7—Miscellaneous VOC Sources
* * * * * * *
2105.77 | Control of VOC Emissions from Large Appliance and Metal Furniture Surface Coating Processes | 5/24/10 | 12/28/10 [Insert page number where the document begins] | New Regulation.
2105.78 | Control of VOC Emissions from Flat Wood Paneling Coating Processes | 5/24/10 | 12/28/10 [Insert page number where the document begins] | New Regulation.
2105.79 | Control of VOC Emissions from Paper, Film, and Foil Surface Coating Processes | 5/24/10 | 12/28/10 [Insert page number where the document begins] | New Regulation.
* * * * * * *

* * * * *

[FR Doc. 2010-32488 Filed 12-27-10; 8:45 am]

BILLING CODE 6560-50-P